DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Socioeconomic Monitoring Program for the Florida Keys National Marine Sanctuary.

OMB Control Number: 0648-0409.

Form Number(s): NA.

Type of Request: Regular submission.

Number of Respondents: 109.

Average Hours per Response: Fishermen's Socioeconomic Profile, 3 hours; Dive Shop Log, 10 hours.

Burden Hours: 810.

Needs and Uses: The National Marine Sanctuaries Act (16 USC 1431, et seq.) authorizes the use of monitoring within National Marine Sanctuaries (NMS). The Florida Keys National Marine Sanctuary and Protection Act (Pub. L. 101-605, Sec 7 (5)) also authorizes monitoring. The Management Plan for the Florida Keys National Marine Sanctuary (FKNMS) and regulations in 1997 and 2001 created a series of “no take” zones, with no consumptive or other “take” activities allowed. The purpose of this information collection is to gather socioeconomic monitoring information in the FKNMS in order to continue evaluation of the socioeconomic impacts of these zones. The results will be used to help guide revisions to the management plan for the sanctuary.

Affected Public: Business or other for-profit organizations.

Frequency: Annually.

Respondent's Obligation: Voluntary.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: September 11, 2009.
Gwellnar Banks,
Management Analyst, Office of the Chief Information Officer.

[FR Doc. E9-22301 Filed 9-15-09; 8:45 am]

BILLING CODE 3510-22-P